DEPARTMENT OF ENERGY

Federal Energy Regulatory Commission

[Project No. 1494-209 Oklahoma]

Grand River Dam Authority: Notice of Availability of Environmental Assessment

July 26, 2001.

In accordance with the National Environmental Policy Act of 1969 and the Federal Energy Regulatory Commission's regulations, 18 CFR part 380 (Order No. 486, 52 FR 47910, the Office of Energy Projects has prepared an environmental assessment (EA) on the Grand River Dam Authority's application for approval of a new dock facility. The Grand River Dam Authority proposes to permit John Ahern, d/b/a Beehern Properties (permittee), to dredge approximately 7,500 to 8,000 cubic yards of sediment and to install three boat docks and a breakwater within Grand Lake's Kelly Cove. The proposed facility includes 20 slips and will be used in conjunction with the permittee's planned residential development on his adjoining property. The Pensacola Project is on the Grand River, in Craig, Delaware, Mayes, and Ottawa Counties, Oklahoma.

The EA is attached to a Commission order issued on July 25, 2001, for the above application. Copies of the EA can be obtained by calling the Commission's Public Reference Room at (202) 208-1371. Copies of the EA can also be obtained through the Commission's homepage at http://www.ferc.fed.us. In the EA, staff concludes that approval of the licensee's proposal would not constitute a major Federal action significantly affecting the quality of the human environment.

Linwood A. Watson, Jr.,
Acting Secretary.

[FR Doc. 01-19135 Filed 7-31-01; 8:45 am]

BILLING CODE 6717-01-P